DEPARTMENT OF COMMERCE

United States Patent and Trademark Office

National Telecommunications and Information Administration; Copyright Policy, Creativity, and Innovation in the Information Economy

AGENCY: United States Patent and Trademark Office, U.S. Department of Commerce; and National Telecommunications and Information Administration, U.S. Department of Commerce.

ACTION: Notice of public meeting.

SUMMARY: The United States Patent and Trademark Office (USPTO) and the National Telecommunications and Information Administration (NTIA), on behalf of the U.S. Department of Commerce (Department), will hold a public meeting on July 1, 2010, to discuss the relationship of copyright policy, creativity, and innovation in the Internet economy.

DATES: The meeting will be held on July 1, 2010, from 8:30 a.m. to 4:45 p.m., Eastern Daylight Time. Registration will begin at 8 a.m.

ADDRESSES: The meeting will be held in the Polaris Room of the Ronald Reagan Building and International Trade Center, 1300 Pennsylvania Avenue, NW., Washington, DC 20004. All major entrances to the building are accessible to people with disabilities.

FOR FURTHER INFORMATION CONTACT: For further information regarding the meeting, contact Velica Steadman at velica.steadman@uspto.gov, (571) 272-9300; or Ian Martinez at imartinez@ntia.doc.gov, (202) 482-3027.

SUPPLEMENTARY INFORMATION: Recognizing the vital importance of both intellectual property and the Internet to U.S. creativity and innovation, the Department has made it a top priority to ensure that both remain vehicles for these important purposes. The Department has assembled an Internet Policy Task Force (Task Force) whose mission is to identify leading public policy and operational challenges in the Internet environment, including challenges associated with protecting the legal rights of inventors and creators. The Task Force leverages expertise across many bureaus, including those responsible for domestic and international information and communications technology policy, international trade, cybersecurity standards and best practices, intellectual property rights, business advocacy and export control.

As part of the Task Force agenda, USPTO and NTIA are conducting a comprehensive review of the relationship of copyright policy, creativity, and innovation in the Internet economy which will include issuing a notice of inquiry. To facilitate this review, on July 1, 2010, USPTO and NTIA will hold a public meeting to discuss stakeholder views and to encourage public discussion of online copyright policy in the United States. The event will seek participation and comment from all interested stakeholders, including the commercial, rightsholder, academic, and civil society sectors, on the impact of current copyright laws, the common and emerging techniques used to illegally distribute and obtain protected works, and the extent of infringement and effects on creativity and innovation in relevant technologies. The agencies will explore the changing nature of infringement and whether those changes suggest gaps in copyright law. Similarly, the agencies invite discussion of the changing impact of copyright law on individual rights. The review will also seek to develop a deeper understanding of the relationship of current copyright laws to consumer welfare, job creation, international trade, and fundamental democratic values. The review is being coordinated with the office of the Intellectual Property Enforcement Coordinator in the Office of Management and Budget, Executive Office of the President.

The agenda for the public meeting will be available at least one week prior to the meeting and the meeting will be webcast. The agenda and webcast information will be available on the Internet Policy Task Force Web site, http://www.ntia.doc.gov/internetpolicytaskforce/ and the USPTO's Web site, http://www.uspto.gov. David J. Kappos, Under Secretary of Commerce for Intellectual Property and Director of the United States Patent and Trademark Office, will deliver remarks, as will Lawrence E. Strickling, Assistant Secretary of Commerce for Communications and Information and Administrator of the National Telecommunications and Information Administration. Other U.S. Government officials will also participate.

The meeting will be open to members of the public on a first-come, first-served basis. To pre-register for the meeting, please send a request to Velica Steadman at velica.steadman@uspto.gov, indicating your name, organizational affiliation, mailing address, telephone, and email address. The meeting will be physically accessible to people with disabilities. Individuals requiring accomodation, such as sign language interpretation or other ancillary aids, should communicate their needs to Velica Steadman at velica.steadman@uspto.gov, or Ian Martinez at ian.martinez@ntia.doc.gov at least five(5) days prior to the meeting. Attendees should arrive at least one-half hour prior to the start of the meeting and must present a valid, government-issued photo identification upon arrival. Persons who have pre-registered (and received confirmation) will have seating held until 15 minutes before the program begins. Members of the public will have an opportunity to ask questions at the meeting.

Dated: June 8, 2010.
David J. Kappos,
Under Secretary of Commerce for Intellectual Property and Director of the United States Patent and Trademark Office.
Lawrence E. Strickling,
Assistant Secretary of Commerce for Communications and Information.

[FR Doc. 2010-14143 Filed 6-11-10; 8:45 am]

BILLING CODE 3510-60-P